DEPARTMENT OF AGRICULTURE

Forest Service

San Juan National Forest Resource Advisory Committee

AGENCY: Forest Service, USDA.

ACTION: Notice of meeting.

SUMMARY: The San Juan National Forest Resource Advisory Council (RAC) will meet in Durango, Colorado. The committee is meeting as authorized under the Secure Rural Schools and Community Self-Determination Act (Pub. L. 110-343) and in compliance with the Federal Advisory Committee Act. The purpose of the meeting is to gather the newly appointed Committee members together to elect a Chair, determine operating principles and organize to review project proposals and recommend allocations of Title II funds within Archuleta, Dolores, La Plata, and Montezuma counties, Colorado.

DATES: The meeting will be held Wednesday, September 8, 2010, 9 a.m.-4 p.m.

ADDRESSES: The meeting will be held at the San Juan Public Lands Center, 15 Burnett Court, Durango, Colorado in the Sonoran Meeting Room. Written comments should be sent to Attn: San Juan National Forest RAC, 15 Burnett Court, Durango, CO 81301. Comments may also be sent via e-mail to abond@fs.fed.us or via facsimile to Attn: Ann Bond, RAC Coordinator at 970.385.1219.

All comments, including names and addresses when provided, are placed in the record and are available for public inspection and copying. The public may inspect comments received at http://www.fs.fed.us/r2/sanjuan.

FOR FURTHER INFORMATION CONTACT: Ann Bond, San Juan National Forest RAC Coordinator, 970.385.1219 or e-mail: abond@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public, with legal notices published in local papers of records for the involved counties, along with public announcements. The following business will be conducted: The newly appointed Committee members will gather together and meet for the first time, address questions about the roles of members, support of the committee and other pertinent information, elect a chairperson, determine operating principles for the RAC and organize to review project proposals and recommend allocation of Title II funds within Archuleta, Dolores, La Plata and Montezuma counties, Colorado.

Persons who wish to bring related matters to the attention of the Committee may file written statements with the Committee staff before or after the meeting. A public comment period will be provided from 2-3 p.m.

Dated: August 3, 2010.
Bill Dunkelberger,
Deputy Forest Supervisor/San Juan Public Lands, San Juan National Forest RAC DFO.

[FR Doc. 2010-19697 Filed 8-9-10; 8:45 am]

BILLING CODE 3410-11-P